ENVIRONMENTAL PROTECTION AGENCY

[EPA-HQ-OAR-2023-0128; FRL-12661-01-OMS]

Agency Information Collection Activities; Submission to the Office of Management and Budget for Review and Approval; Comment Request; NESHAP for Polyether Polyols Production (Renewal)

AGENCY: Environmental Protection Agency (EPA).

ACTION: Notice.

SUMMARY: The Environmental Protection Agency (EPA) has submitted an information collection request (ICR), NESHAP for Polyether Polyols Production (EPA ICR Number 1811.12, OMB Control Number 2060-0415) to the Office of Management and Budget (OMB) for review and approval in accordance with the Paperwork Reduction Act. This is a proposed extension of the ICR, which is currently approved through February 28, 2025. Public comments were previously requested via the Federal Register on May 18, 2023 during a 60-day comment period. This notice allows for an additional 30 days for public comments.

DATES: Comments may be submitted on or before March 31, 2025.

ADDRESSES: Submit your comments, referencing Docket ID Number EPA-HQ-OAR-2023-0128, to EPA online using www.regulations.gov (our preferred method), by email to a-and-r-docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division, Office of Air Quality Planning and Standard, D243-05, Environmental Protection Agency, 1200 Pennsylvania Ave. NW, Washington, DC 20460; telephone number: (919) 541-0833; email address: ali.muntasir@epa.gov.

SUPPLEMENTARY INFORMATION: This is a proposed extension of the ICR, which is currently approved through February 28, 2025. An agency may not conduct or sponsor and a person is not required to respond to a collection of information unless it displays a currently valid OMB control number.

Public comments were previously requested via the Federal Register on May 18, 2023 during a 60-day comment period (88 FR 31748). This notice allows for an additional 30 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: The NESHAP for Polyether Polyols Production (40 CFR part 63, subpart PPP) were proposed on September 4, 1997; promulgated on June 1, 1999; and amended on March 27, 2014. These regulations apply to both new and existing facilities that engage in the manufacture of polyether polyols (including polyether mono-ols) and emit hazardous air pollutants (HAPs). Owners or operators of polyether polyols production facilities to which this regulation applies must either choose one of the compliance options described in the rule or install and monitor a specific control system that reduces HAP emissions to the compliance level. Respondents are also subject to sections of 40 CFR part 63, subpart A. New facilities include those that commenced construction, modification, or reconstruction after the date of proposal. This information is being collected to assure compliance with 40 CFR part 63, subpart PPP.

Form Numbers: None.

Respondents/affected entities: Polyether polyols production facilities.

Respondent's obligation to respond: Mandatory (40 CFR part 63, subpart PPP).

Estimated number of respondents: 25 (total).

Frequency of response: Initially and semiannually.

Total estimated burden: 4,350 hours (per year). Burden is defined at 5 CFR 1320.03(b).

Total estimated cost: $554,000 (per year), which includes $6,110 annualized capital or operation & maintenance costs.

Changes in the estimates: There is an increase of 640 hours in the total estimated respondent burden compared with the ICR currently approved by OMB. This increase is due to an increase in the number of existing and new sources compared to previous ICR renewals. This renewal includes 24 existing sources and one new source subject to the subpart over the next three years of this renewal.

Courtney Kerwin,
Director, Information Engagement Division.

[FR Doc. 2025-03313 Filed 2-27-25; 8:45 am]

BILLING CODE 6560-50-P